DEPARTMENT OF TRANSPORTATION

Federal Aviation Administration

14 CFR Parts 142 and 194

[Docket No. FAA-2023-1275; Amdt. Nos. 142-11A and 194-1A]

RIN 2120-AL72

Integration of Powered-Lift: Pilot Certification and Operations; Miscellaneous Amendments Related to Rotorcraft and Airplanes; Correction

AGENCY: Federal Aviation Administration (FAA), U.S. Department of Transportation (DOT).

ACTION: Final rule; correction.

SUMMARY: On November 21, 2024, the Federal Aviation Administration (FAA) published a final rule titled “Integration of Powered-Lift: Pilot Certification and Operations; Miscellaneous Amendments Related to Rotorcraft and Airplanes” (RIN 2120-AL72). That final rule inadvertently duplicated two tables in the regulatory text of the Special Federal Aviation Regulation for powered-lift. This correction removes the duplicates. Additionally, the FAA inadvertently cited an incorrect paragraph in the Training center instructor eligibility requirements section of the Code of Federal Regulations. This correction corrects the paragraph reference.

DATES: This correction is effective January 21, 2025.

FOR FURTHER INFORMATION CONTACT: Christina Grabill, AFS-810, Federal Aviation Administration, 800 Independence Ave. SW, Washington, DC 20591; telephone (202) 267-1100; email 9-FAA-Powered-Lift@faa.gov.

SUPPLEMENTARY INFORMATION: On November 21, 2024, the “Integration of Powered-Lift: Pilot Certification and Operations” final rule (RIN 2120-AL72) published in the Federal Register at 89 FR 92296. After publication, the FAA discovered that two tables had been inadvertently duplicated in the regulatory text of part 194, specifically table 1 to § 194.302 and table 1 to § 194.306. These two tables detail the provisions under parts 91 and 135 applicable to powered-lift, respectively. The first instance of each table includes revisions made prior to the publication of this rule while the second instance is the outdated and incorrect table. These revisions include adding the phrase “of this chapter,” where appropriate, and removing redundant section heading citations. This document corrects those tables by removing the incorrect text from each section. Additionally, the FAA inadvertently incorrectly cited a paragraph in § 142.47(a)(5)(iv). The FAA had intended to cite paragraph (a)(5)(i) but instead cited § 142.47(a)(i). This document corrects that citation.

Corrections

In FR 2024-24886, published in the Federal Register of November 21, 2024, at 89 FR 92296, make the following corrections:

§ 142.47 [Corrected]

1. On page 92489, in the first column, in § 142.47, in paragraph (a)(5)(iv) introductory text, “(a)(i)” is corrected to read “(a)(5)(i)”.

2. Beginning on page 92499, table 1 to § 194.302 is corrected to read as follows:

§ 194.302 [Corrected]

* * * * *

Table 1 to § 194.302
Regulation | Applicability | Additional requirements or clarification
Part 91, Subpart A General
(a) Section 91.9(a) and (b) of this chapter | Applies to all powered-lift | The requirement for an approved Aircraft Flight Manual is set forth in the airworthiness criteria established under § 21.17(b) of this chapter.
Part 91, Subpart B Flight Rules
(b) Section 91.103(b)(1) of this chapter | Applies to powered-lift for which an approved Aircraft Flight Manual containing takeoff and landing distance data is required |
(c) Section 91.107(a)(3)(i) through (iii) of this chapter | Applies to all powered-lift | The exception under § 91.107(a)(3) of this chapter for seaplane and float equipped rotorcraft operations during movement on the surface applies to persons pushing off a powered-lift from the dock or persons mooring the powered-lift at the dock.
(d) Section 91.119(d) of this chapter | Applies to powered-lift operating in vertical-lift flight mode | Under § 91.119(d) of this chapter, a powered-lift may be operated in vertical-lift flight mode at less than the minimums prescribed in § 91.119(b) or (c) of this chapter, provided each person operating the powered-lift complies with any routes or altitudes specifically prescribed for powered-lift by the FAA.
(e) Section 91.126(b)(1) of this chapter | Applies to powered-lift operating in wing-borne flight mode | If the powered-lift is operating in vertical-lift flight mode, see paragraph (f) of this section.
(f) Section 91.126(b)(2) of this chapter | Applies to powered-lift operating in vertical-lift flight mode | If the powered-lift is operating in wing-borne flight mode, see paragraph (e) of this section.
(g) Section 91.129(e)(1) and (2), (g)(2), and (h) of this chapter | Applies to large or turbine-powered powered-lift |
(h) Section 91.129(e)(3) of this chapter | Applies to powered-lift preparing to land in wing-borne flight mode |
(i) Section 91.129(f)(1) of this chapter | Applies to powered-lift operating in wing-borne flight mode | (1) If the powered-lift is operating in vertical-lift flight mode, see paragraph (j) of this section.
|  | (2) Section 91.129(f)(1) of this chapter does not apply when the operator of a powered-lift is conducting a circling approach under part 97 of this chapter or when otherwise requested by air traffic control (ATC).
(j) Section 91.129(f)(2) of this chapter | Applies to powered-lift operating in vertical-lift flight mode | (1) If the powered-lift is operating in wing-borne flight mode, see paragraph (i) of this section.
|  | (2) Section 91.129(f)(2) does not apply when the operator of a powered-lift is conducting a circling approach under part 97 of this chapter or when otherwise requested by ATC.
(k) Section 91.131(a)(2) of this chapter | Applies to large powered-lift
(l) Section 91.151(a) and (b) of this chapter | Applies to powered-lift | (1) A powered-lift with the performance capability, as outlined in the Aircraft Flight Manual, to conduct a landing in the vertical-lift flight mode along the entire route of flight may use the VFR fuel requirements outlined in § 91.151(b) of this chapter.
|  | (2) Powered-lift unable to meet the requirements of paragraph (l)(1) of this section must use the rule requirements outlined in § 91.151(a) of this chapter.
(m) Section 91.155(a) of this chapter | The helicopter provision under § 91.155(a) of this chapter applies to powered-lift operating in vertical-lift flight mode and at a speed that allows the pilot to see any other traffic or obstructions in time to avoid a collision | (1) Except as provided in § 91.155(b) of this chapter, powered-lift that meet the requirements of paragraph (m) of this section may operate under the helicopter VFR visibility minimums outlined under § 91.155(a) of this chapter in class G airspace.
|  | (2) Powered-lift unable to meet the requirements of paragraph (m) of this section must use the VFR visibility minimums in § 91.155(a) of this chapter for aircraft other than helicopters.
(n) Section 91.155(b)(1) of this chapter | Applies to powered-lift operating in the vertical-lift flight mode and at a speed that allows the pilot to see any other traffic or obstructions in time to avoid a collision | (1) Powered-lift that meet the requirements of paragraph (n) of this section may use the VFR visibility minimums outlined in § 91.155(b)(1) of this chapter in Class G airspace.
|  | (2) Powered-lift unable to meet the requirements of paragraph (n) of this section must use the visibility minimums outlined in § 91.155(b)(2) of this chapter.
(o) Section 91.155(b)(2) of this chapter | Applies to powered-lift | Powered-lift operating in Class G airspace that cannot meet the requirements of paragraph (n) of this section must use the VFR visibility minimums outlined under § 91.155(b)(2) of this chapter.
(p) Section 91.157(b)(3), (b)(4), and (c) of this chapter | The helicopter exceptions outlined in § 91.157(b)(3), (b)(4), and (c) of this chapter apply to powered-lift operating in vertical-lift flight mode when those aircraft are operated at a speed that allows the pilot to see any other traffic or obstructions in time to avoid a collision |
(q) Section 91.167(a)(3) and (b)(2)(ii) of this chapter | The helicopter provisions in § 91.167(a)(3) and (b)(2)(ii) of this chapter apply to powered-lift authorized to conduct copter procedures and that have the performance capability for the entire flight to conduct a landing in the vertical-lift flight mode, as outlined in the Aircraft Flight Manual | (1) Powered-lift that meet the requirements of paragraph (q) of this section may use the helicopter provisions under § 91.167(a)(3) and (b)(2)(ii) of this chapter. (2) Powered-lift that are unable to meet the requirements outlined in paragraph (q) of this section must use the 45-minute fuel requirement outlined in § 91.167(a)(3) of this chapter and the aircraft requirement outlined in § 91.167(b)(2)(i) of this chapter.
(r) Section 91.169(b)(2)(ii) and (c)(1)(ii) of this chapter | Applies to powered-lift authorized to conduct copter procedures and that have the performance capability to land in the vertical-lift flight mode, as outlined in the Aircraft Flight Manual | (1) Powered-lift that meet the requirements of paragraph (r) of this section may use the helicopter provisions specified in § 91.169(b)(2)(ii) and (c)(1)(ii) of this chapter.
|  | (2) Powered-lift that are unable to meet the requirements outlined in paragraph (r) of this section must use the requirements for aircraft other than helicopters under § 91.169(b)(2)(i) and (c)(1)(i) of this chapter.
(s) Section 91.175(f)(2)(iii) of this chapter | Applies to powered-lift with two engines or less, that takeoff in vertical-lift flight mode, and that are authorized to conduct copter procedures | Powered-lift with two engines or less that are unable to meet the requirements outlined in this paragraph (s) must comply with § 91.175(f)(2)(i) of this chapter.
(t) Section 91.175(f)(4)(i) of this chapter | Applies to part 135 of this chapter powered-lift operators required to comply with subpart I to part 135 of this chapter |
Part 91, Subpart C Equipment, Instrument, and Certificate Requirements
(u) Section 91.205(b)(11) and (14) of this chapter | Applies to small powered-lift | Position and anti-collision lights must meet § 23.2530(b) of this chapter.
(v) Section 91.205(d)(3)(i) of this chapter | Applies to powered-lift certified for instrument flight rules operations
(w) Section 91.207 of this chapter | Applies to all powered-lift
(x) Section 91.219 of this chapter | Applies to all powered-lift
(y) Section 91.223(a) and (c) of this chapter | Applies to powered-lift configured with 6 or more passenger seats, excluding any pilot seat | Instead of terrain awareness and warning system (TAWS), powered-lift must be equipped with a helicopter terrain awareness and warning system (HTAWS) that meets the requirements in TSO-C194 and Section 2 of RTCA DO-309 (incorporated by reference, see § 194.109) or a FAA-approved TAWS A/HTAWS hybrid system.
Part 91, Subpart D Special Flight Operations
(z) Section 91.313(g) of this chapter | Applies to restricted category small powered-lift
Part 91, Subpart E Maintenance, Preventive Maintenance, and Alterations
(aa) Section 91.409(e) through (h) of this chapter | Applies to technically-advanced powered-lift which are powered-lift equipped with an electronically advanced system in which the pilot interfaces with a multi-computer system with increasing levels of automation in order to aviate, navigate, or communicate | (1) Unless otherwise authorized by the Administrator, a technically advanced powered-lift must be equipped with an electronically advanced multi-computer system that includes one or more of the following installed components: (i) An electronic Primary Flight Display (PFD) that includes, at a minimum, an airspeed indicator, turn coordinator, attitude indicator, heading indicator, altimeter, and vertical speed indicator;
|  | (ii) An electronic Multifunction Display (MFD) that includes, at a minimum, a moving map using Global Positioning System (GPS) navigation with the aircraft position displayed;
|  | (iii) A multi-axis autopilot integrated with the navigation and heading guidance system; and
|  | (iv) Aircraft design with advanced fly-by-wire-flight control system that utilizes electronically operated controls with no direct mechanical link from the pilot to the control surfaces.
|  | (2) The display elements described in paragraphs (aa)(1)(i) and (ii) of this section must be continuously visible.
(bb) Section 91.411 of this chapter | Applies to all powered-lift
Part 91, Subpart F Large and Turbine-Powered Multiengine Airplanes and Fractional Ownership Program Aircraft
(cc) Section 91.501 of this chapter | Applies to large powered-lift regardless of powerplant, as well as powered-lift operating under subpart K to part 91 of this chapter, and subject to any limitations outlined in this part | Any sections or paragraphs within sections to subpart F to part 91 of this chapter that refer to a specific category of aircraft and that are not referenced in this table or the table to § 194.306, do not apply to powered-lift.
(dd) Section 91.503 of this chapter | Applies to powered-lift subject to the requirements of subpart F to part 91 of this chapter as specified in paragraph (cc) of this section | Powered-lift may comply with § 91.503(a)(5) of this chapter by having the appropriate engine or multiple-engines inoperative climb performance data available at the pilot station of the aircraft.
(ee) Section 91.505 of this chapter | Applies to powered-lift subject to the requirements of subpart F to part 91 of this chapter as specified in paragraph (cc) of this section |
(ff) Section 91.507 of this chapter | Applies to powered-lift subject to the requirements of subpart F to part 91 of this chapter as specified in paragraph (cc) of this section |
(gg) Section 91.509 of this chapter | Applies to powered-lift subject to the requirements of subpart F to part 91 of this chapter as specified in paragraph (cc) of this section | (1) Powered-lift operating over water under § 91.509(a) or (b) of this chapter may use either the nearest shore or the nearest off-shore heliport structure by which to measure the nautical mile limits provided in § 91.509(a) and (b).
|  | (2) The lifeline required by § 91.509(b)(5) of this chapter must be stored in accordance with § 25.1411(g) of this chapter or such airworthiness criteria as the FAA may find provide an equivalent level of safety in accordance with § 21.17(b) of this chapter.
(hh) Section 91.511 of this chapter | Applies to powered-lift subject to the requirements of subpart F to part 91 of this chapter as specified in paragraph (cc) of this section | Powered-lift operating over water under § 91.511(a) of this chapter may use either the nearest shore or the nearest off-shore heliport structure by which to measure the nautical mile limits provided in § 91.511(a).
(ii) Section 91.513 of this chapter | Applies to powered-lift subject to the requirements of subpart F to part 91 of this chapter as specified in paragraph (cc) of this section |
(jj) Section 91.515 of this chapter | Applies to powered-lift subject to the requirements of subpart F to part 91 of this chapter as specified in paragraph (cc) of this section |
(kk) Section 91.517 of this chapter | Applies to powered-lift subject to the requirements of subpart F to part 91 of this chapter as specified in paragraph (cc) of this section |
(ll) Section 91.519 of this chapter | Applies to powered-lift subject to the requirements of subpart F to part 91 of this chapter as specified in paragraph (cc) of this section |
(mm) Section 91.521 of this chapter | Applies to large powered-lift subject to the requirements of subpart F to part 91 of this chapter as specified in paragraph (cc) of this section | The safety belt and shoulder harness required by § 91.521 of this chapter must comply with § 25.785 of this chapter or such airworthiness criteria as the FAA may find provide an equivalent level of safety in accordance with § 21.17(b) of this chapter.
(nn) Section 91.523 of this chapter | Applies to powered-lift having a seating capacity of more than 19 passengers subject to the requirements of subpart F to part 91 of this chapter as specified in paragraph (cc) of this section | The carry-on baggage required by § 91.523 of this chapter must be stowed such that it can withstand the inertia forces specified in § 25.561(b)(3) of this chapter or such airworthiness criteria as the FAA may find provide an equivalent level of safety in accordance with § 21.17(b) of this chapter.
(oo) Section 91.525 of this chapter | Applies to powered-lift subject to the requirements of subpart F to part 91 of this chapter as specified in paragraph (cc) of this section |
(pp) Section 91.527(a) of this chapter | Applies to powered-lift subject to the requirements of subpart F to part 91 of this chapter as specified in paragraph (cc) of this section | (1) Powered-lift critical surfaces, as outlined in the Aircraft Flight Manual for that aircraft, must also be determined to be free of frost, ice, or snow.
|  | (2) Powered-lift critical surfaces under this section are determined by the manufacturer.
(qq) Section 91.527(b)(2) and (3) of this chapter | Applies to powered-lift subject to the requirements of subpart F to part 91 of this chapter as specified in paragraph (cc) of this section | Instead of § 91.527(b)(2) and (3) of this chapter, to operate instrument flight rules (IFR) into known light or moderate icing conditions or VFR into known light or moderate icing conditions, an operator must comply with § 194.306(xx).
(rr) Section 91.527(c) of this chapter | Applies to powered-lift subject to the requirements of subpart F to part 91 of this chapter as specified in paragraph (cc) of this section | No pilot may fly a powered-lift into known or forecast severe icing conditions.
(ss) Section 91.531(a)(1) and (2), (b), and (c) of this chapter | Applies to powered-lift subject to the requirements of subpart F to part 91 of this chapter as specified in paragraph (cc) of this section and that meet the additional requirements as set forth in each paragraph of § 91.531 of this chapter; § 91.531(b)(2) of this chapter applies to large powered-lift that meet the additional requirements set forth in that paragraph |
(tt) Section 91.533 of this chapter | Applies to powered-lift subject to the requirements of subpart F to part 91 of this chapter as specified in paragraph (cc) of this section |
Part 91, Subpart G Additional Equipment and Operating Requirements for Large and Transport Category Aircraft
(uu) Section 91.603 of this chapter | Applies to large powered-lift | The aural speed warning device required by § 91.603 of this chapter must comply with § 25.1303(c)(1) of this chapter or such airworthiness criteria as the FAA may find provide an equivalent level of safety in accordance with § 21.17(b) of this chapter.
(vv) Section 91.605(b)(1) of this chapter | Applies to large powered-lift | The Aircraft Flight Manual must contain the takeoff weight performance information.
(ww) Section 91.605(b)(2) of this chapter | Applies to large powered-lift | The Aircraft Flight Manual must contain the landing performance information.
(xx) Section 91.605(b)(3), (b)(4)(ii), and (c) of this chapter | Applies to large powered-lift that execute takeoff operations using wing-borne lift and that have takeoff performance information contained in the Aircraft Flight Manual |
(yy) Section 91.609(c), (d), (e), (i), and (j) of this chapter | Paragraph (c) of § 91.609 of this chapter applies to powered-lift with a passenger seating configuration, excluding any pilot seats, of 10 or more seats; § 91.609(e) of this chapter applies to powered-lift with a passenger seating configuration of six or more seats and for which two pilots are required by type certification or operating rule; § 91.609(d) of this chapter applies to powered-lift required by that section to have a flight data recorder; and § 91.609(i) and (j) of this chapter apply to powered-lift required by that section to have a cockpit voice recorder and a flight data recorder | (1) Operators of powered-lift having a passenger seating configuration, excluding any pilot seat, of 10 or more must comply with § 194.310 or § 194.311 in lieu of the appendices referenced in § 91.609(c)(1) of this chapter. (2) For compliance with § 91.609(c)(3), (e)(1), and (i) of this chapter, powered-lift must comply with the certification provisions listed in those paragraphs or such airworthiness criteria as the FAA may find provide an equivalent level of safety in accordance with § 21.17(b) of this chapter. (3) Under § 91.609(d) of this chapter, the flight recorder must operate continuously from the earlier of when the powered-lift begins the takeoff roll or begins lift-off until the later of when the powered-lift completes the landing roll or lands at its destination.
(zz) Section 91.613(b)(2) of this chapter | Applies to large powered-lift | The thermal/acoustic installation materials required by § 91.613(b)(2) of this chapter must meet the requirements of § 25.856 of this chapter or such airworthiness criteria as the FAA may find provide an equivalent level of safety in accordance with § 21.17(b) of this chapter.
Part 91, Subpart K Fractional Ownership Operations
(aaa) Section 91.1037 of this chapter | Applies to large powered-lift subject to the requirements of subpart K to part 91 of this chapter that are certificated to conduct landing operations in wing-borne flight mode as indicated in the Aircraft Flight Manual | If a powered-lift operator is required to comply with this section, the operator must also comply with § 91.1025(o)(7) of this chapter.
(bbb) Section 91.1041(b) and (d) of this chapter | Applies to all powered-lift subject to the requirements of subpart K to part 91 of this chapter |
(ccc) Section 91.1045(a) of this chapter | Applies to powered-lift subject to the requirements of subpart K to part 91 of this chapter with a passenger-seat configuration of more than 30 seats or a payload capacity of more than 7,500 pounds | Under § 91.1045(a)(3) of this chapter, instead of TAWS, powered-lift must be equipped with a helicopter terrain awareness and warning system (HTAWS) that meets the requirements in TSO-C194 and Section 2 of RTCA DO-309 (incorporated by reference, see § 194.109) or a FAA-approved TAWS A/HTAWS hybrid system.
(ddd) Section 91.1045(b) of this chapter | Applies to powered-lift subject to the requirements of subpart K to part 91 of this chapter with a passenger-seat configuration of 30 seats or fewer, excluding each crewmember, and a payload capacity of 7,500 pounds or less | Compliance with § 91.1045(b)(3) of this chapter requires a helicopter terrain awareness and warning system that complies with § 194.306(s).

3. Beginning on page 92506, table 1 to § 194.306 is corrected to read as follows:

§ 194.306 [Corrected]

* * * * *

Table 1 to § 194.306
Regulation | Applicability | Additional requirements or clarification
Part 135, Subpart A General
(a) Section 135.1(a)(9) of this chapter | Applies to powered-lift conducting operations in accordance with subpart L of part 135 of this chapter |
(b) Section 135.23(r) of this chapter | Applies to powered-lift required to comply with § 135.385 of this chapter as set forth in paragraphs (hhh) and (iii) of this section |
Part 135, Subpart B Flight Operations
(c) Section 135.93(a) through (f) of this chapter | Applies to all powered-lift | (1) The requirements referencing an Airplane Flight Manual under § 135.93(b) of this chapter apply to a powered-lift's Aircraft Flight Manual.
|  | (2) Under § 135.93(c) of this chapter, no person operating a powered-lift may use an autopilot enroute, including climb and descent, below the following—
|  | (i) Either:
|  | (A) At a minimum engagement altitude specified in the Aircraft Flight Manual; or
|  | (B) If no minimum engagement altitude is specified, 500 feet, or at an altitude that is no lower than twice the altitude loss specified in the Aircraft Flight Manual for an autopilot malfunction in cruise conditions, whichever is greater; or
|  | (ii) Notwithstanding the requirements of paragraphs (c)(2)(i)(A) and (B) of this section, at an altitude specified by the Administrator.
(d) Section 135.117(a)(9) of this chapter | Applies to powered-lift conducting operations beyond the autorotational distance from the shoreline, as defined in § 135.168(a) of this chapter, or gliding distance of a shoreline |
(e) Section 135.128(a) of this chapter | Applies to all powered-lift | The exception under § 135.128(a) of this chapter for seaplane and float equipped rotorcraft operations during movement on the surface applies to persons pushing off a powered-lift from the dock or persons mooring the powered-lift at the dock.
Part 135, Subpart C Aircraft and Equipment
(f) Section 135.145(b) of this chapter | Applies to all powered-lift unless the certificate holder has previously proven a powered-lift under part 135 of this chapter |
(g) Section 135.145(d)(1) of this chapter | Applies to all powered-lift unless a powered-lift of the same make or similar design has been proven or validated by that certificate holder under part 135 of this chapter |
(h) Section 135.150(a)(7) of this chapter | Applies to large powered-lift with a passenger seating configuration, excluding any pilot seat, of more than 19 | The public address system required by § 135.150(a)(7) of this chapter must comply with § 25.1423 of this chapter or such airworthiness criteria as the FAA may find provide an equivalent level of safety in accordance with § 21.17(b) of this chapter.
(i) Section 135.150(b)(7) of this chapter | Applies to large powered-lift with a passenger seating configuration, excluding any pilot seat, of more than 19 | The crewmember interphone system must comply with the requirements of § 135.150(b)(7) of this chapter or such airworthiness criteria as the FAA may find provide an equivalent level of safety in accordance with § 21.17(b) of this chapter.
(j) Section 135.151(a) of this chapter | Applies to powered-lift with a passenger seating configuration of six or more seats and for which two pilots are required by certification or operating rules | The cockpit voice recorder must be installed and equipped in accordance with the certification provisions listed in § 135.151(a)(1) of this chapter or such airworthiness criteria as the FAA may find provide an equivalent level of safety in accordance with § 21.17(b) of this chapter.
(k) Section 135.151(b) of this chapter | Applies to powered-lift with a passenger seating configuration of 20 or more seats | The cockpit voice recorder must be installed and equipped in accordance with the certification provisions listed in § 135.151(b)(1) of this chapter or such airworthiness criteria as the FAA may find provide an equivalent level of safety in accordance with § 21.17(b) of this chapter.
(l) Section 135.151(d) of this chapter | Applies to large powered-lift or powered-lift equipped with a cockpit voice recorder | The cockpit voice recorder required by § 135.151(d) of this chapter must record the uninterrupted audio signal received by a boom or mask microphone in accordance with § 25.1457(c)(5) of this chapter or such airworthiness criteria as the FAA may find provide an equivalent level of safety in accordance with § 21.17(b) of this chapter.
(m) Section 135.151(g)(1) of this chapter | Applies to powered-lift with a passenger seating configuration of six or more seats, for which two pilots are required by certification or operating rules, and that are required to have a flight data recorder under § 135.152 of this chapter | The cockpit voice recorder must be installed and equipped in accordance with the appropriate certification provisions listed in § 135.151(g)(1)(i) and (iv) of this chapter or such airworthiness criteria as the FAA may find provide an equivalent level of safety in accordance with § 21.17(b) of this chapter.
(n) Section 135.151(g)(2) of this chapter | Applies to powered-lift with a passenger seating configuration of 20 or more seats and that is required to have a flight data recorder under § 135.152 of this chapter | The cockpit voice recorder must be installed and equipped in accordance with the appropriate certification provisions listed in § 135.151(g)(2)(i) and (iv) of this chapter or such airworthiness criteria as the FAA may find provide an equivalent level of safety in accordance with § 21.17(b) of this chapter.
(o) Section 135.151(h) of this chapter | Applies to powered-lift required to have a cockpit voice recorder and a flight data recorder under part 135 with installed datalink communication equipment |
(p) Section 135.152(a) of this chapter | Section 135.152(a) of this chapter applies to powered-lift with a passenger seating configuration of 10 to 19 seats | Powered-lift operators must comply with § 194.312 or § 194.313 in lieu of the appendices referenced in § 135.152 of this chapter.
(q) Section 135.152(b) introductory text and (b)(3) of this chapter | Section 135.152(b) introductory text and (b)(3) apply to powered-lift with a passenger seating configuration of 20 to 30 seats |
(r) Section 135.152(c), (d), (f), and (j) of this chapter | Applies to powered-lift with a passenger seating configuration, excluding crewmember seats, of 10 to 30 | (1) The flight recorder must be installed and equipped in accordance with the appropriate certification provisions listed in § 135.152 of this chapter or such airworthiness criteria as the FAA may find provide an equivalent level of safety in accordance with § 21.17(b) of this chapter.
|  | (2) Certificate holders must keep the recorded data until the powered-lift has been operating for at least 25 hours.
|  | (3) The powered-lift flight recorder must be operated continuously from the instant the powered-lift begins the takeoff roll or lift-off until the landing is completed.
(s) Section 135.154(a) and (c) of this chapter | Applies to powered-lift configured with 6 or more passenger seats, excluding any pilot seat | Instead of TAWS, powered-lift must be equipped with a helicopter terrain awareness and warning system (HTAWS) that meets the requirements in TSO-C194 and Section 2 of RTCA DO-309 (incorporated by reference, see § 194.109) or a FAA-approved TAWS A/HTAWS hybrid system.
(t) Section 135.158 of this chapter | Applies to powered-lift equipped with a flight instrument pitot heating system | Under § 135.158(a) of this chapter, no person may operate a powered-lift equipped with a flight instrument pitot heating system unless the aircraft is also equipped with an operable pitot heat indication system that complies with § 23.2605 or § 25.1326 of this chapter, or such airworthiness criteria as the FAA may find provide an equivalent level of safety in accordance with § 21.17(b) of this chapter that provides an alert that is in clear view of a flightcrew member.
(u) Section 135.159(a)(1) of this chapter | Applies to powered-lift with a third attitude instrument system that meets the requirements of § 135.159(a)(1) of this chapter |
(v) Section 135.160 of this chapter | Applies to all powered-lift
(w) Section 135.163(g) of this chapter | Applies to all powered-lift | The two required generators may be mounted on a drivetrain that is driven by two separate powerplants as outlined in § 135.163(g) of this chapter for multi-engine helicopters.
(x) Section 135.165(d) of this chapter | Applies to powered-lift having a passenger seat configuration, excluding any pilot seat, of 10 seats or more, or a powered-lift in a commuter operation, as defined in part 119 of this chapter
(y) Section 135.165(g)(1) of this chapter | Applies to powered-lift for purposes of approving a single long-range navigation system and a single long-range communication system for extended over-water operations
(z) Section 135.168 of this chapter | Applies to powered-lift operating beyond autorotational distance or gliding distance from the shoreline | (1) The life preserver required by § 135.168(b)(1) of this chapter need not be worn but must be readily available for its intended use and easily accessible to each occupant when the powered-lift is a multiengine aircraft operated at a weight that will allow it to climb, with the critical engine inoperative or while experiencing a critical change of thrust, at least 50 feet a minute, at an altitude of 1,000 feet above the surface.
|  | (2) For powered-lift unable to meet the requirements of paragraph (z)(1) of this section, the occupants must wear life preservers during the flight.
|  | (3) For purposes of paragraphs (z), (ii), (jj), and (kk) of this section, critical change of thrust means a failure that would most adversely affect the performance or handling qualities of an aircraft.
(aa) Section 135.169(a) of this chapter | Applies to large powered-lift | Powered-lift must comply with appropriate certification provisions listed in § 135.169(a) of this chapter or such airworthiness criteria as the FAA may find provide an equivalent level of safety in accordance with § 21.17(b) of this chapter.
(bb) Section 135.169(b)(1) and (b)(8) of this chapter | Applies to small powered-lift with a passenger seating configuration, excluding pilot seats, of 10 seats or more | (1) Under § 135.169(b)(1) of this chapter, small powered-lift with a passenger seating configuration of 10 seats or more must comply with the applicable requirements for transport category powered-lift or such airworthiness criteria as the FAA may find provide an equivalent level of safety in accordance with § 21.17(b) of this chapter.
|  | (2) Under § 135.169(b)(8) of this chapter, small powered-lift with a passenger seating configuration of 10 seats or more must comply with the applicable requirements under part 23 of this chapter referenced in § 135.169(b)(8) of this chapter or such airworthiness criteria as the FAA may find provide an equivalent level of safety in accordance with § 21.17(b) of this chapter.
(cc) Section 135.169(d) of this chapter | Applies to large powered-lift with a cargo or baggage compartment of 200 cubic feet or greater | The cargo and baggage compartments required by § 135.169(d) of this chapter must comply with the certification provisions listed in that paragraph or such airworthiness criteria as the FAA may find provide an equivalent level of safety in accordance with § 21.17(b) of this chapter.
(dd) Section 135.170(b)(1) of this chapter | Applies to large powered-lift; § 135.170(b)(1)(ii) applies to large powered-lift with a passenger capacity of 20 or more | Powered-lift must comply with appropriate certification provisions listed in § 135.170(b)(1) of this chapter or such airworthiness criteria as the FAA may find provide an equivalent level of safety in accordance with § 21.17(b) of this chapter.
(ee) Section 135.170(b)(2) of this chapter | Applies to large powered-lift | The seat cushions required by § 135.170(b)(2) of this chapter must comply with § 25.853 of this chapter or such airworthiness criteria as the FAA may find provide an equivalent level of safety in accordance with § 21.17(b) of this chapter.
(ff) Section 135.170(c)(2) of this chapter | Applies to large powered-lift | The seat cushions required by § 135.170(c)(2) of this chapter must comply with § 25.856 of this chapter or such airworthiness criteria as the FAA may find provide an equivalent level of safety in accordance with § 21.17(b) of this chapter.
(gg) Section 135.178 of this chapter | Applies to powered-lift having a passenger-seating configuration of more than 19 seats | The additional emergency equipment must comply with appropriate certification provisions listed in § 135.178 of this chapter or such airworthiness criteria as the FAA may find provide an equivalent level of safety in accordance with § 21.17(b) of this chapter.
(hh) Section 135.180 of this chapter | Applies to powered-lift with a passenger seat configuration, excluding any pilot seat, of 10 to 30 seats | The Aircraft Flight Manual must contain the information outlined in § 135.180(b) of this chapter.
(ii) Section 135.181(a)(2) of this chapter | Applies to powered-lift | No person may operate a multiengine powered-lift carrying passengers over-the-top or in IFR conditions at a weight that will not allow it to climb, with the critical engine inoperative or while experiencing a critical change of thrust as defined in paragraph (z) of this section, at least 50 feet a minute when operating at the MEAs of the route to be flown or 5,000 feet MSL, whichever is higher.
(jj) Section 135.181(b) of this chapter | Applies to powered-lift conducting offshore passenger operations | Multiengine powered-lift carrying passengers offshore may conduct such operations in over-the-top or in IFR conditions at a weight that will allow the powered-lift to climb at least 50 feet per minute with the critical engine inoperative or while experiencing a critical change of thrust as defined in paragraph (z) of this section, when operating at the MEA of the route to be flown or 1,500 feet MSL, whichever is higher.
(kk) Section 135.183(c) of this chapter | Applies to powered-lift | No person may operate a land aircraft carrying passengers over water unless it is a multiengine aircraft operated at a weight that will allow it to climb, with the critical engine inoperative or while experiencing a critical change of thrust as defined in paragraph (z) of this section, at least 50 feet a minute, at an altitude of 1,000 feet above the surface.
(ll) Section 135.183(d) of this chapter | Applies if the powered-lift is equipped with flotation devices and carrying passengers over water |
Part 135, Subpart D VFR/IFR Operating Limitations and Weather Requirements
(mm) Section 135.203(a) of this chapter | Applies to powered-lift except those operating in the vertical-lift flight mode under paragraph (nn) of this section | The Administrator may authorize a lower minimum altitude for a powered-lift if the FAA has determined, during type certification, the lower minimum altitude enables a transition from wing-borne to vertical-lift flight mode and the aircraft can conduct a safe autorotation, or an approved equivalent maneuver, to a landing but no lower than 300 feet above the surface.
(nn) Section 135.203(b) of this chapter | Applies to powered-lift operating in vertical-lift flight mode that are certificated and able to conduct an autorotation or an approved equivalent maneuver to a landing | Powered-lift that do not meet the requirements of this paragraph (nn) must use the VFR minimum altitudes outlined in paragraph (mm) of this section.
(oo) Section 135.205(a) of this chapter | Applies to all powered-lift except as provided in paragraph (pp) of this section |
(pp) Section 135.205(b) of this chapter | Applies to powered-lift operating in vertical-lift flight mode and at a speed that allows the pilot adequate opportunity to see and avoid any other air traffic or any obstructions in time to avoid a collision | Powered-lift that do not meet the requirements of this paragraph (pp) must use the VFR visibility requirements outlined in § 135.205(a) of this chapter.
(qq) Section 135.207 of this chapter | Applies if the powered-lift does not have the flight instrumentation listed in § 135.159 of this chapter installed and operable |
(rr) Section 135.209(a) of this chapter | Applies to all powered-lift except as provided in paragraph (ss) of this section | (1) The Administrator may authorize deviations from § 135.209(a) of this chapter for specific routes with one or more predetermined suitable landing areas if the FAA finds the operation can be conducted safely. If the Administrator authorizes such a deviation, an operations specification will be issued to the operator containing, at a minimum, the specific routes and the VFR fuel reserve specified in minutes. The Administrator may, at any time, terminate any grant of deviation authority issued under this paragraph.
|  | (2) Suitable landing area for purposes of this paragraph (rr) and paragraph (ss) of this section means an area that provides the operator reasonable capability to land without causing undue hazard to persons or property. These suitable landing areas must be site specific, designated by the operator, and accepted by the FAA.
(ss) Section 135.209(b) of this chapter | Applies to powered-lift with the performance capability, as provided in the Aircraft Flight Manual, for the entire flight to conduct a landing in the vertical-lift flight mode | The Administrator may authorize deviations from § 135.209(b) of this chapter for specific routes with one or more predetermined suitable landing areas if the FAA finds the operation can be conducted safely. If the Administrator authorizes such a deviation, an operations specification will be issued to the operator containing, at a minimum, the specific routes and the VFR fuel reserve specified in minutes. The Administrator may, at any time, terminate any grant of deviation authority issued under this paragraph.
(tt) Section 135.221(b) of this chapter | Applies to powered-lift authorized to conduct copter procedures and which can land in the vertical-lift flight mode, as provided in the Aircraft Flight Manual | Powered-lift that do not meet these criteria must use the alternate airport minimums specified for aircraft in § 135.221(a) of this chapter.
(uu) Section 135.223(a)(3) of this chapter | Applies to powered-lift authorized to conduct copter procedures and that have the performance capability, as provided in the Aircraft Flight Manual, to conduct a landing in the vertical-lift flight mode for the entire flight | (1) A powered-lift that meets the requirements of paragraph (uu) of this section may use the 30-minute fuel requirements specified for helicopters in § 135.223(a)(3) of this chapter. (2) Powered-lift that are unable to meet the requirements outlined in paragraph (uu) of this section must use the 45-minute fuel requirement outlined in § 135.223(a)(3) of this chapter.
(vv) Section 135.225(e) of this chapter | Applies to all powered-lift
(ww) Section 135.227(b) of this chapter | Applies to all powered-lift | (1) Powered-lift critical surfaces, as outlined in the aircraft flight manual for that aircraft, must also be determined to be free of frost, ice, or snow.
|  | (2) Powered-lift critical surfaces under this section are determined by the manufacturer.
(xx) Section 135.227(d) of this chapter | Applies to powered-lift that are type certificated and appropriately equipped for operations in icing conditions |
(yy) Section 135.229(b)(2)(ii) of this chapter | Applies to powered-lift taking off or landing in vertical-lift flight mode and equipped with landing lights oriented in a direction that enables the pilot to see the area to be used for landing or takeoff marked by reflective material | If a powered-lift is not taking off or landing in vertical-lift flight mode and is not equipped with landing lights oriented in a direction that enables the pilot to see the area to be used for landing or takeoff marked by reflective material, the powered-lift must take off or land at an airport with boundary or runway marker lights.
Part 135, Subpart F Crewmember Flight Time and Duty Period Limitations and Rest Requirements
(zz) Section 135.271 of this chapter | Applies to powered-lift conducting operations in accordance with subpart L to part 135 of this chapter |
Part 135, Subpart I Airplane Performance Operating Limitations
(aaa) Section 135.361(a) of this chapter | As applicable to each powered-lift considering size and certification basis and subject to any limitations outlined in this part | Any sections or paragraphs within sections to subpart I to part 135 of this chapter that refer to a specific category of aircraft and that are not referenced in the table 1 to § 194.302 or this table, do not apply to powered-lift.
(bbb) Section 135.363(b) through (e) of this chapter | As applicable to each powered-lift, regardless of power plant type, considering size and certification basis |
(ccc) Section 135.363(f) of this chapter | Applies to powered-lift that must comply with §§ 135.365 through 135.387 of this chapter as set forth in paragraphs (ddd) through (jjj) of this section |
(ddd) Section 135.379(a) and (d) of this chapter | Applies to large powered-lift | The Aircraft Flight Manual must contain the takeoff weight performance information.
(eee) Section 135.379(c), (e), (f), and (g) of this chapter | Applies to large powered-lift certificated to conduct takeoff operations that utilize wing-borne lift as indicated in the aircraft flight manual | The accelerate-stop distance required by § 135.379(c)(1) of this chapter must comply with § 25.109 of this chapter or such airworthiness criteria as the FAA may find provide an equivalent level of safety in accordance with § 21.17(b) of this chapter.
(fff) Section 135.381 of this chapter | Applies to large powered-lift |
(ggg) Section 135.383(c) of this chapter | Applies to large powered-lift |
(hhh) Section 135.385(a) of this chapter | Applies to large powered-lift | The Aircraft Flight Manual must contain the landing weight performance information.
(iii) Section 135.385(b), (d), (e), and (f) of this chapter | Applies to large powered-lift certificated to conduct landing operations that utilize wing-borne lift and that have landing performance information contained in the aircraft flight manual | Section 135.385(f) only applies to eligible on-demand operators.
(jjj) Section 135.387(a) and (b) of this chapter | Applies to large powered-lift certificated to conduct landing operations that utilize wing-borne lift and that have landing performance information contained in the aircraft flight manual | (1) Powered-lift operating under § 135.387(a) of this chapter must be able to complete a full stop landing within 60 percent of the effective length of the runway.
|  | (2) Section 135.387(b) only applies to eligible on-demand operators.
(kkk) Section 135.397(b) of this chapter | Applies to small powered-lift having a passenger-seating configuration of more than 19 seats and that utilize wing-borne lift during takeoff and landing | The Aircraft Flight Manual must contain the takeoff and landing weight performance information.
Part 135, Subpart J Maintenance, Preventive Maintenance, and Alterations
(lll) Section 135.429(d) of this chapter | Applies to powered-lift that operate in remote areas or sites |
Part 135, Subpart L Helicopter Air Ambulance Equipment, Operations, and Training Requirements
(mmm) Section 135.601 of this chapter | Applies to powered-lift conducting operations in accordance with subpart L to part 135 of this chapter |
(nnn) Section 135.603 of this chapter | Applies to powered-lift conducting operations in accordance with subpart L to part 135 of this chapter | (1) Under § 135.603 of this chapter, no certificate holder may use, nor may any person serve as, a pilot in command of an air ambulance operation unless that person meets the requirements of § 135.243 of this chapter and holds a powered-lift instrument rating or an airline transport pilot certificate with a category rating for that aircraft, that is not limited to VFR.
|  | (2) See § 194.249 of this chapter for references to class in part 135 of this chapter.
(ooo) Section 135.605 of this chapter | Applies to powered-lift conducting operations in accordance with subpart L to part 135 of this chapter | Powered-lift must be equipped with a helicopter terrain awareness and warning system (HTAWS) that meets the requirements in TSO-C194 and Section 2 of RTCA DO-309 (incorporated by reference, see § 194.109) or a FAA-approved TAWS A/HTAWS hybrid system.
(ppp) Section 135.607 of this chapter | Applies to powered-lift conducting operations in accordance with subpart L to part 135 of this chapter |
(qqq) Section 135.609 of this chapter | Applies to powered-lift conducting operations in accordance with subpart L to part 135 of this chapter | (1) For nonmountainous local flying areas, powered-lift must comply with the following weather minimums:
|  | (i) During day operations in a vertical-lift or wing-borne flight mode, a ceiling of 800 feet and visibility of 2 SM;
|  | (ii) During night operations in a vertical-lift flight mode, a ceiling of 800 feet and visibility of 3 SM; and
|  | (iii) During night operations in a wing-borne flight mode, a ceiling of 1,500 feet and visibility of 3 SM.
|  | (2) For nonmountainous, non-local flying areas, powered-lift must comply with the following weather minimums:
|  | (i) During day operations in a vertical-lift or wing-borne flight mode, a ceiling of 800 feet and visibility of 3 SM;
|  | (ii) During night operations in a vertical-lift flight mode, a ceiling of 1,000 feet and visibility of 3 SM.
|  | (iii) During night operations in a wing-borne flight mode, a ceiling of 1,500 feet and visibility of 3 SM.
|  | (3) For mountainous local flying areas, powered-lift must comply with the following weather minimums:
|  | (i) During day operations in a vertical-lift or wing-borne flight mode, a ceiling of 800 feet and visibility of 3 SM;
|  | (ii) During night operations in a vertical-lift flight mode, a ceiling of 1,000 feet and visibility of 3 SM.
|  | (iii) During night operations in a wing-borne flight mode, a ceiling of 2,500 feet and visibility of 3 SM.
|  | (4) For mountainous non-local flying areas, powered-lift must comply with the following weather minimums:
|  | (i) During day operations in a vertical-lift or wing-borne flight mode, a ceiling of 1,000 feet and visibility of 3 SM; and
|  | (ii) During night operations in a vertical-lift flight mode, a ceiling of 1,000 feet and visibility of 5 SM;
|  | (iii) During night operations in a wing-borne flight mode, a ceiling of 2,500 feet and visibility of 5 SM.
(rrr) Section 135.611 of this chapter | Applies to powered-lift conducting operations in accordance with subpart L to part 135 of this chapter |
(sss) Section 135.613(a) of this chapter | Applies to powered-lift conducting operations in accordance with subpart L to part 135 of this chapter | (1) Section 135.613(a)(1) of this chapter only applies to powered-lift equipped and certified to conduct PinS approaches annotated with a “Proceed VFR” segment.
|  | (2) The applicable VFR weather minimums under § 135.613(a)(2) of this chapter for powered-lift operating in the wing-borne flight mode are: (i) For Day Operations: No less than a 1,000-foot ceiling and 2 statute miles flight visibility; and
|  | (ii) For Night Operations: No less than a 1,500-foot ceiling and 3 statute miles flight visibility.
|  | (3) The applicable VFR weather minimums under § 135.613(a)(2) of this chapter for powered-lift operating in the vertical-lift mode are:
|  | (i) For Day Operations: No less than a 600-foot ceiling and 2 statute miles flight visibility; and
|  | (ii) For Night Operations: No less than a 600-foot ceiling and 3 statute miles flight visibility.
(ttt) Section 135.613(b) of this chapter | Applies to powered-lift conducting operations in accordance with subpart L to part 135 | (1) Under § 135.613(b)(1) of this chapter, for transitions from VFR to IFR upon departure, the VFR weather minimums outlined for powered-lift under paragraph (sss) of this section apply if:
|  | (i) An FAA-approved obstacle departure procedure is followed; and
|  | (ii) An IFR clearance is obtained on or before reaching a predetermined location that is not more than 3 NM from the departure location.
|  | (2) Under § 135.613(b)(2) of this chapter, if the departure does not meet the requirements of paragraph (ttt)(1) of this section, the VFR weather minimums required by the SFAR for the class of airspace apply.
(uuu) Section 135.615 of this chapter | Applies to powered-lift conducting operations in accordance with subpart L to part 135 of this chapter | (1) For powered-lift operating in wing-borne flight mode during the enroute phase of flight, under § 135.615(a)(3), (b), and (c) of this chapter, the following minimums apply:
|  | (i) For day operations: no less than 500 feet above the surface or no less than 500 feet horizontally from any obstacle; or
|  | (ii) For night operations: at an altitude no less than 1,000 feet above the highest obstacle within a horizontal distance of 5 miles from the course intended to be flown or, in designated mountainous terrain, no less than 2,000 feet above the highest obstacle within a horizontal distance of 5 miles from the course intended to be flown.
|  | (2) For powered-lift operating in vertical-lift flight mode during the enroute phase of flight, under § 135.615(a)(3), (b), and (c) of this chapter, the following minimums apply:
|  | (i) No less than 300 feet for day operations.
|  | (ii) No less than 500 feet for night operations.
(vvv) Section 135.617 of this chapter | Applies to powered-lift conducting operations in accordance with subpart L to part 135 of this chapter |
(www) Section 135.619 of this chapter | Applies to powered-lift operators with 10 or more powered-lift, helicopters, or any combination thereof, assigned to the certificate holder's operations specifications for air ambulance operations |
(xxx) Section 135.621 of this chapter | Applies to powered-lift conducting operations in accordance with subpart L to part 135 of this chapter |

Issued under authority provided by 49 U.S.C. 106(f), 44701(a), and 44703 in Washington, DC.

Brandon Roberts,
Executive Director, Office of Rulemaking.

[FR Doc. 2024-30331 Filed 1-2-25; 8:45 am]

BILLING CODE 4910-13-P